SUSQUEHANNA RIVER BASIN COMMISSION

Public Hearing

AGENCY: Susquehanna River Basin Commission.

ACTION: Notice.

SUMMARY: Due to technical issues with the previously scheduled November 4th public hearing, the Susquehanna River Basin Commission will hold a rescheduled public hearing on December 2, 2021. The Commission will hold this hearing both in-person and telephonically. At this public hearing, the Commission will hear testimony on the projects listed in the Supplementary Information section of this notice. The Commission will also hear testimony on a proposed policy, Fee Incentives for the Withdrawal and Consumptive Use of AMD Impacted Waters & Treated Wastewater (formerly the draft Use of Lesser Quality Waters Policy), as well as proposals to amend its Regulatory Program Fee Schedule and a proposed Letter of Understanding (LOU) regarding program coordination between the Susquehanna River Basin Commission and the Pennsylvania Department of Environmental Protection (DEP). Such projects and proposals are intended to be scheduled for Commission action at its next business meeting, tentatively scheduled for December 17, 2021, which will be noticed separately. The public should take note that this public hearing will be the only opportunity to offer oral comment to the Commission for the listed projects and proposals. The deadline for the submission of written comments has been extended to December 13, 2021.

DATES: The public hearing will convene on December 2, 2021, at 6:30 p.m. The public hearing will end at 9:00 p.m. or at the conclusion of public testimony, whichever is earlier. The deadline for the submission of written comments is December 13, 2021.

ADDRESSES: This hearing will be conducted at Commission headquarters at 4423 North Front Street, Harrisburg, PA, with the option to participate by telephone conference. Conference Call # 1-888-387-8686 (toll free), Access Code/PIN: 917 968 6050.

FOR FURTHER INFORMATION CONTACT: Jason Oyler, General Counsel and Secretary to the Commission, telephone: (717) 238-0423 or joyler@srbc.net.

Information concerning the applications for the projects is available at the Commission's Water Application and Approval Viewer at https://www.srbc.net/waav. Information concerning the proposals can be found at https://www.srbc.net/about/meetings-events/. Additional supporting documents are available to inspect and copy in accordance with the Commission's Access to Records Policy at www.srbc.net/regulatory/policies-guidance/docs/access-to-records-policy-2009-02.pdf.

SUPPLEMENTARY INFORMATION: The Commission is proposing a policy for Fee Incentives for the Withdrawal and Consumptive Use of AMD Impacted Waters & Treated Wastewater (formerly the draft Use of Lesser Quality Waters Policy, which was revised based on prior public comment). This policy would replace the current Policy No. 2009-01. The Commission is also proposing changes to its Regulatory Program Fee Schedule, which it typically does on an annual basis. The Commission is also seeking public comment on the LOU with the Pennsylvania DEP. The LOU would replace the current MOU with DEP signed in 1999. The public hearing will cover the following projects:

Projects Scheduled for Action:

1. Project Sponsor and Facility: Artesian Water Company, Inc., New Garden Township, Chester County, Pa. Application for renewal of the transfer of water of up to 3.000 mgd (30-day average) from the Chester Water Authority (Docket No. 19961105).

2. Project Sponsor and Facility: Chesapeake Appalachia, L.L.C. (Susquehanna River), Terry Township, Bradford County, Pa. Application for renewal and modification of surface water withdrawal of up to 3.000 mgd (peak day) (Docket No. 20170904).

3. Project Sponsor and Facility: Clearfield Municipal Authority, Pike Township, Clearfield County, Pa. Modification to extend the approval term of the groundwater withdrawal approval (Docket No. 19910704) to allow for project improvements.

4. Project Sponsor and Facility: Deep Woods Lake LLC, Dennison Township, Luzerne County, Pa. Applications for groundwater withdrawal of up to 0.200 mgd (30-day average) from Well SW-5 and consumptive use of up to 0.467 mgd (peak day).

5. Project Sponsor and Facility: Municipal Authority of the Township of East Hempfield dba Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

6. Project Sponsor: Farmers Pride, Inc. Project Facility: Bell & Evans Plant 3, Bethel Township, Lebanon County, Pa. Applications for groundwater withdrawals (30-day averages) of up to 0.108 mgd from Well PW-1, 0.139 mgd from Well PW-2, and 0.179 mgd from Well PW-4.

7. Project Sponsor: Glenn O. Hawbaker, Inc. Project Facility: Naginey Facility, Armagh Township, Mifflin County, Pa. Applications for groundwater withdrawal of up to 0.300 mgd (30-day average) from the Quarry Pit Pond and consumptive use of up to 0.310 mgd (peak day).

8. Project Sponsor: Hydro Recovery-Antrim LP. Project Facility: Antrim Treatment Plant (Antrim No. 1 Mine Discharge and Backswitch Mine Discharge), Duncan Township, Tioga County, Pa. Applications for renewal of surface water withdrawal of up to 1.872 mgd (peak day) and for consumptive use of up to 1.872 mgd (30-day average) (Docket No. 20090902).

9. Project Sponsor and Facility: Project Sponsor and Facility: Mifflin County Municipal Authority (formerly The Municipal Authority of the Borough of Lewistown), Armagh Township, Mifflin County, Pa. Applications for groundwater withdrawals (30-day averages) of up to 0.770 mgd from McCoy Well 1, 1.152 mgd from McCoy Well 2, and 0.770 mgd from the Milroy Well.

10. Project Sponsor: Nature's Way Purewater Systems, Inc. Project Facility: USHydrations—Dupont Bottling Plant, Dupont Borough, Luzerne County, Pa. Modification to increase consumptive use (peak day) by an additional 0.100 mgd, for a total consumptive use of up to 0.449 mgd (Docket No. 20110618).

11. Project Sponsor and Facility: Shippensburg Borough Authority, Southampton Township, Cumberland County, Pa. Application for renewal of groundwater withdrawal of up to 2.000 mgd (30-day average) from Well 3 (Docket No. 20070305).

12. Project Sponsor and Facility: Walker Township Water Association, Inc., Walker Township, Centre County, Pa. Applications for renewal of groundwater withdrawals (30-day averages) of up to 0.432 mgd from Zion Well 2 and 0.320 mgd from Hecla Well 1 (Docket Nos. 19910302 and 19950906).

Project Scheduled for Action Involving a Diversion:

1. Project Sponsor and Facility: Chester Water Authority, New Garden Township, Chester County, Pa. Applications for renewal of consumptive use and for an out-of-basin diversion of up to 3.000 mgd (30-day average) (Docket No. 19961104).

Commission-Initiated Project Approval Modification:

1. Project Sponsor and Facility: Elkview Country Club, Greenfield and Fell Townships, Lackawanna County, Pa. Conforming the grandfathering amount with the forthcoming determination for a surface water withdrawal up to 0.144 mgd (30-day average) from Crystal Lake (Docket No. 20021002).

Opportunity to Appear and Comment:

Interested parties may attend or call into the hearing to offer comments to the Commission on any business listed above required to be the subject of a public hearing. Given the telephonic option to the hearing, the Commission strongly encourages those members of the public wishing to provide oral comments to pre-register with the Commission by emailing Jason Oyler at joyler@srbc.net prior to the hearing date. The presiding officer reserves the right to limit oral statements in the interest of time and to otherwise control the course of the hearing. Access to the building and the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before December 13, 2021 to be considered.

Authority: Pub. L. 91-575, 84 Stat. 1509 et seq., 18 CFR parts 806, 807, and 808.

Dated: November 5, 2021.
Jason E. Oyler,
General Counsel and Secretary to the Commission.

[FR Doc. 2021-24587 Filed 11-9-21; 8:45 am]

BILLING CODE 1740-01-P